DEPARTMENT OF ENERGY

Federal Energy Regulatory Commission

[Docket No. AD24-11-000]

Notice of Request for Comments; Large Loads Co-Located at Generating Facilities

On November 1, 2024, the Federal Energy Regulatory Commission (Commission) convened a Commissioner-led technical conference in the above captioned proceeding to discuss generic issues related to the co-location of large loads at generating facilities. All interested persons are invited to file post-conference comments on or before December 9, 2024 regarding issues raised during the technical conference that they believe would benefit from further discussion.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2024).

For more information about this Notice, please contact Keatley Adams at Keatley.Adams@ferc.gov or 202-502-8678. For legal information, please contact Christopher Chaulk at Christopher.Chaulk@ferc.gov or 202-502-6720.

Dated: November 8, 2024.
Debbie-Anne A. Reese,
Secretary.

[FR Doc. 2024-26677 Filed 11-14-24; 8:45 am]

BILLING CODE 6717-01-P